DEPARTMENT OF COMMERCE

International Trade Administration

Notice of Meetings

AGENCY: International Trade Administration, Department of Commerce.

ACTION: Notice.

SUMMARY: The Commerce Department's International Trade Administration (ITA) and its U.S. Commercial Service posts in India will host a U.S. delegation to the India Business Summit to be led by Under Secretary for International Trade Franklin L. Lavin, November 29-30, 2006, followed by spin-off missions in six Indian cities, December 4-5, 2006. Leaders of U.S. business, industry, education, and state and local government are among those encouraged to take part in the Summit, where strategic breakout sessions will provide access to India's high-level business, industry, and government representatives and insights into the country's trade and investment climate. Following the Summit, the U.S. Commercial Service posts in India will concurrently host spin-off missions for U.S. exporters in Bangalore, Calcutta, Chennai, Hyderabad, Mumbai, and New Delhi. The spin-off missions will be open to qualified U.S. business representatives in a wide range of sectors and will include market briefings, networking receptions, and one-on-one business appointments with prospective agents, distributors, partners, and end-users.

FOR FURTHER INFORMATION CONTACT: Nancy Hesser at the Department of Commerce in Washington, DC. Telephone: (202) 482-4663. Fax: (202) 482-2718.

Nancy Hesser,
Manager, Commercial Service Trade Missions Program.

[FR Doc. E6-10318 Filed 6-29-06; 8:45 am]

BILLING CODE 3510-25-P